DEPARTMENT OF TRANSPORTATION

Pipeline and Hazardous Materials Safety Administration

Special Permit Applications Actions

AGENCY: Pipeline and Hazardous Materials Safety Administration (PHMSA), DOT.

ACTION: Notice of actions on special permit applications.

SUMMARY: In accordance with the procedures governing the application for, and the processing of, special permits from the Department of Transportation's Hazardous Material Regulations (49 CFR part 107, subpart B), notice is hereby given of the actions on special permits applications in (February to February 2013). The mode of transportation involved are identified by a number in the “Nature of Application” portion of the table below as follows: 1—Motor vehicle, 2—Rail freight, 3—Cargo vessel, 4—Cargo aircraft only, 5—Passenger-carrying aircraft. Application numbers prefixed by the letters EE represent applications for Emergency Special Permits. It should be noted that some of the sections cited were those in effect at the time certain special permits were issued.

Issued in Washington, DC, on March 18, 2013.
Donald Burger,
Chief, Special Permits and Approvals Branch.

S.P No. | Applicant | Regulation(s) | Nature of special permit thereof
MODIFICATION SPECIAL PERMIT GRANTED
11470-M | Veolia ES Technical Solutions, L.L.C., Flanders, NJ | 49 CFR 172.301(a)(2) | To modify the special permit to authorize revising the marking requirements.
15655-M | Walt Disney Parks and Resorts U.S., Inc., Anaheim, CA | 49 CFR 173.56(b) and 172.320 | To modify the special permit to authorize an additional packaging configuration.
13232-M | CP Industries, McKeesport, PA | 49 CFR 178.37(k)(2)(i); 178.37(1); 178.45(j)(1); 178.45(k)(2) | To modify the special permit to remove the requirement for maintaining a copy of the special permit where each package is offered or reoffered for transportation.
15647-M | Thunderbird Cylinder, Inc., Phoenix, AZ | 49 CFR 179.7 and 180.505 | To reissue the special permit originally issued on an emergency basis for retesting of certain DOT Specification and non-DOT Specification multi unit tank car tanks.
14003-M | INOCOM Inc., Riverside, CA | 49 CFR 173.302(a)(1), 173.304(a) and 180.205 | To modify the special permit by replacing the current CFFC gunfire test with the ISO-11119-2 gunfire test for cylinders with diameter of 120 mm or less.
15118-M | Mystery Creek Resources Inc., Anchorage, AK | 49 CFR 172.101 Column (9B) | To modify the special permit to authorize Sodium hydroxide solution in quantities that exceed those authorized by cargo only aircraft.
NEW SPECIAL PERMIT GRANTED
15676-N | Iberica del Espacio, S.A | 49 CFR 172.101 Column (9B) | To authorize the transportation in commerce of anhydrous ammonia by cargo aircraft exceeding the quantities authorized in Column (9B). (mode 4)
15716-N | Department of Energy, Washington, DC | 49 CFR, 49 CFR § 173.310 | To authorize the transportation in commerce of boron trifluoride in radiation detectors. (mode 1)
15735-N | W.R. Grace, Grace-Conn, Columbia, MD | 49 CFR 173.242 | To authorize the transportation in commerce of a Class 4.3 material in an IBC. (mode 1)
15741-N | Pacific Consolidated Industries, LLC Riverside, CA | 49 CFR 173.302(f) (3), (4), (5); 175.501(e)(3) | To authorize the transportation of oxidizing gases by cargo aircraft without a strong outer packaging capable of passing the Flame Penetration Restance Test, the Thermal Resistance Test, and to waive marking the outer package. (modes 4, 5)
15744-N | Praxair Distribution, Inc., Danbury, CT | 49 CFR 180.205; 180.209 | To authorize the transportation in commerce of certain cylinders that have been ultrasonically retested for use in transporting Division 2.1, 2.2, and 2.3 materials. (modes 1, 2, 3, 4)
15758-N | K&S Helicopters, Inc. Column (9B), Kailua Kona, HI | 49 CFR § 172.101, § 172.204(c)(3), § 173.27(b)(2), § 175.30(a)(1), §§ 172.200, 172.300, 172.400, 173.302(f)(3) and § 175.75 | To authorize the transportation in commerce of certain hazardous materials by Part 133 Rotorcraft External. Load Operations, attached to or suspended from an aircraft, in remote areas of the US without meeting certain hazard communication and stowage requirements. (mode 4)
15768-N | E.I. DuPont de Nemours & Company, Inc., Mt. Clemens, MI | 49 CFR 172.302(a); 172.302(c); 172.326(a); 172.331(b); 172.504(a) | To authorize the transportation in commerce of bulk packagings and unmarked IBCs and DOT-57 portable tanks containing residue of high flash point combustible liquid. (mode 1)
EMERGENCY SPECIAL PERMIT GRANTED
12135-M | Daicel Safety Systems, Inc., Hyogo Prefecture 671-1681 | 49 CFR 173.301(h); 173.302; 173.306(d)(3) | To modify the special permit to authorize a new design of non-DOT specification cylinders (pressure vessels) for use as components of automobile vehicle safety systems. (modes 1, 2, 3, 4)
15756-M | United States Environmental Protection Agency Region II, Edison, NJ | 49 CFR Parts 171-180 | To authorize additional time for the transportation in commerce of certain hazardous materials in support of the recovery and relief efforts within the Hurricane Sandy disaster areas of New York and New Jersey under conditions that may not meet the Hazardous Materials Regulations. (mode 1)
15817-N | CL Smith Company, Saint Louis, MO | 49 CFR 173.13(a), 173.13(b), 173.13(c)(l)(ii), 173.13(c)(1)(iv), 173.13(d) | Authorizes the manufacture, marking, and sale of specially designed combination packaging, for shipment of small quantities Division 6.1 solids in Packing Group II and III shipped without labels. (modes 1, 2, 4, 5)
DENIED
15764-N | Request by Matheson Tr-Gas Basking Ridge, NJ February 15, 2013. To authorize the transportation in commerce of certain cylinders that have been ultrasonically retested for use in transporting Division 2.1, 2.2, and 2.3 materials.

[FR Doc. 2013-06698 Filed 3-25-13; 8:45 am]

BILLING CODE 4909-60-M